DEPARTMENT OF ENERGY

Federal Energy Regulatory Commission

Combined Notice of Filings #1

Take notice that the Commission received the following exempt wholesale generator filings:

Docket Numbers: EG18-82-000.

Applicants: Armadillo Flats Wind Project, LLC.

Description: Notice of Self-Certification of Exempt Wholesale Generator Status of Armadillo Flats Wind Project, LLC.

Filed Date: 5/7/18.

Accession Number: 20180507-5080.

Comments Due: 5 p.m. ET 5/29/18.

Take notice that the Commission received the following electric rate filings:

Docket Numbers: ER18-1528-000.

Applicants: PJM Interconnection, L.L.C.

Description: § 205(d) Rate Filing: Rev to OATT, OA and RAA RE: GDECS Further Ministerial Clean-Ups to be effective 7/3/2018.

Filed Date: 5/4/18.

Accession Number: 20180504-5224.

Comments Due: 5 p.m. ET 5/25/18.

Docket Numbers: ER18-1529-000.

Applicants: Emera Maine.

Description: § 205(d) Rate Filing: Administrative Filing to Re-Collate Two Records to be effective 5/7/2018.

Filed Date: 5/7/18.

Accession Number: 20180507-5057.

Comments Due: 5 p.m. ET 5/29/18.

Docket Numbers: ER18-1530-000.

Applicants: Lackawanna Energy Center LLC.

Description: Request of Lackawanna Energy Center LLC for Limited Waiver and Expedited Action.

Filed Date: 5/4/18.

Accession Number: 20180504-5248.

Comments Due: 5 p.m. ET 5/25/18.

Docket Numbers: ER18-1531-000.

Applicants: Hopewell Cogeneration LLC.

Description: § 205(d) Rate Filing: Notice of Succession to Market-Based Rate Tariff to be effective 5/8/2018.

Filed Date: 5/7/18.

Accession Number: 20180507-5097.

Comments Due: 5 p.m. ET 5/29/18.

Docket Numbers: ER18-1532-000.

Applicants: Wisconsin Public Service Corporation.

Description: § 205(d) Rate Filing: W-1A and RS 87 FERC Form 1 Update to be effective 7/7/2018.

Filed Date: 5/7/18.

Accession Number: 20180507-5100.

Comments Due: 5 p.m. ET 5/29/18.

Docket Numbers: ER18-1533-000.

Applicants: LG&E Energy Marketing Inc.

Description: Tariff Cancellation: LEM Notice of Cancellation of CBR Tariff to be effective 5/7/2018.

Filed Date: 5/7/18.

Accession Number: 20180507-5101.

Comments Due: 5 p.m. ET 5/29/18.

Docket Numbers: ER18-1534-000.

Applicants: East Hampton Energy Storage Center, LLC.

Description: Baseline eTariff Filing: East Hampton Energy Storage Center, LLC Application for Market-Based Rates to be effective 7/6/2018.

Filed Date: 5/7/18.

Accession Number: 20180507-5110.

Comments Due: 5 p.m. ET 5/29/18.

Docket Numbers: ER18-1535-000.

Applicants: Montauk Energy Storage Center, LLC.

Description: Baseline eTariff Filing: Montauk Energy Storage Center, LLC Application for Market-Based Rates to be effective 7/6/2018.

Filed Date: 5/7/18.

Accession Number: 20180507-5113.

Comments Due: 5 p.m. ET 5/29/18.

Docket Numbers: ER18-1536-000.

Applicants: LG&E Energy Marketing Inc.

Description: Tariff Cancellation: LEM Notice of Cancellation of MBR Tariff to be effective 5/8/2018.

Filed Date: 5/7/18.

Accession Number: 20180507-5123.

Comments Due: 5 p.m. ET 5/29/18.

Docket Numbers: ER18-1537-000.

Applicants: Louisville Gas and Electric Company.

Description: Tariff Cancellation: KYMEA NOA Cancellation to be effective 4/16/2018.

Filed Date: 5/7/18.

Accession Number: 20180507-5124.

Comments Due: 5 p.m. ET 5/29/18.

Docket Numbers: ER18-1538-000.

Applicants: PJM Interconnection, L.L.C.

Description: Tariff Cancellation: Notice of Cancellation of Service Agreement No. 4849; Queue No. AA2-169 to be effective 6/1/2018.

Filed Date: 5/7/18.

Accession Number: 20180507-5166.

Comments Due: 5 p.m. ET 5/29/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 7, 2018.
Nathaniel J. Davis, Sr.,
Deputy Secretary.

[FR Doc. 2018-10048 Filed 5-10-18; 8:45 am]

BILLING CODE 6717-01-P